DEPARTMENT OF THE INTERIOR

National Park Service

Notice of Termination of Preparation of an Environmental Impact Statement for the Harriet Tubman Special Resource Study

AGENCY: National Park Service, Department of the Interior.

ACTION: Termination of preparation of an Environmental Impact Statement.

SUMMARY: This notice announces the termination of the process to develop an Environmental Impact Statement (EIS) for the Harriet Tubman Special Resource Study (SRS). The SRS was undertaken at the direction of Congress in Public Law 106-516 to evaluate sites related to Harriet Tubman for potential inclusion in the national park system. The study area includes parts of Maryland and New York. A Notice of Intent to Prepare an EIS was published in the Federal Register on February 7, 2003.

Initial formal public scoping took place through spring 2004, followed by continuous informal consultation with stakeholders, agency officials, and the interested public. From June through September 2008, NPS held stakeholder and public meetings and took comments on the preliminary alternatives.

Scoping revealed no issues or controversy, nor the potential for significant environmental impacts. Therefore, it was determined that an Environmental Assessment (EA) would suffice to address National Environmental Policy Act requirements for this study.

The Harriet Tubman Special Resource Study and Environmental Assessment was made available for public review starting 11/19/2008 with the comment period ending 12/19/2008. The study report can be viewed at the NPS Planning, Environment and Public Comment (PEPC) Web site at: http://parkplanning.nps.gov/ or through the study Web site, http://www.HarrietTubmanStudy.org.

FOR FURTHER INFORMATION CONTACT:

Terrence Moore, Chief of Planning and Special Studies, National Park Service, Northeast Region, 200 Chestnut Street, 3rd Floor, Philadelphia, PA 19106.

Dennis R. Reidenbach,
Regional Director, Northeast Region, National Park Service.

[FR Doc. E9-9781 Filed 4-28-09; 8:45 am]

BILLING CODE 4312-52-P